ENVIRONMENTAL PROTECTION AGENCY

40 CFR Part 52

[EPA-R01-OAR-2011-0118; A-1-FRL-9644-5]

Approval and Promulgation of Air Quality Implementation Plans; Rhode Island; Reasonably Available Control Technology (RACT) for the 1997 8-Hour Ozone Standard

AGENCY: Environmental Protection Agency (EPA).

ACTION: Proposed rule.

SUMMARY: The EPA is proposing to approve four State Implementation Plan (SIP) revisions submitted by the Rhode Island Department of Environmental Management (RI DEM). These revisions demonstrate that the State of Rhode Island meets the requirements of reasonably available control technology (RACT) for oxides of nitrogen (NOX) and volatile organic compounds (VOCs) set forth by the Clean Air Act (CAA) with respect to the 1997 8-hour ozone standard. The intended effect of this action is to propose approval of Rhode Island's RACT demonstration and the submitted regulations. Additionally, EPA is proposing to approve Rhode Island's negative declarations for several categories of VOC sources. This action is being taken in accordance with the CAA.

DATES: Written comments must be received on or before April 12, 2012.

ADDRESSES: Submit your comments, identified by Docket ID No. EPA-R01-OAR-2011-0118 by one of the following methods:

1. www.regulations.gov: Follow the on-line instructions for submitting comments.

2. Email: arnold.anne@epa.gov.

3. Fax: 617-918-0047.

4. Mail: “EPA-R01-OAR-2011-0118,” Anne Arnold, U.S. Environmental Protection Agency, New England Regional Office, Office of Ecosystem Protection, Air Quality Planning Unit, 5 Post Office Square—Suite 100, Mail Code OEP05-02, Boston, MA 02109-3912.

5. Hand Delivery or Courier: Deliver your comments to: Anne Arnold, U.S. Environmental Protection Agency, New England Regional Office, Office of Ecosystem Protection, Air Quality Planning Unit, 5 Post Office Square—Suite 100, Mail Code OEP05-02, Boston, MA 02109-3912. Such deliveries are only accepted during the Regional Office's normal hours of operation. The Regional Office's official hours of business are Monday through Friday, 8:30 a.m. to 4:30 p.m., excluding legal holidays.

Please see the direct final rule which is located in the Rules Section of this Federal Register for detailed instructions on how to submit comments.

FOR FURTHER INFORMATION CONTACT: David Mackintosh, U.S. Environmental Protection Agency, New England Regional Office, Office of Ecosystem Protection, Air Quality Planning Unit, 5 Post Office Square—Suite 100, Mail Code OEP05-02, Boston, MA 02109-3912, telephone 617-918-1584, facsimile 617-918-0584, email mackintosh.david@epa.gov.

SUPPLEMENTARY INFORMATION: In the Final Rules Section of this Federal Register, EPA is approving the State's SIP revisions as a direct final rule without prior proposal because the Agency views this as a noncontroversial submittal and anticipates no adverse comments. A detailed rationale for the approval is set forth in the direct final rule. If no adverse comments are received in response to this rule, no further activity is contemplated. If EPA receives adverse comments, the direct final rule will be withdrawn and all public comments received will be addressed in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment.

For additional information, see the direct final rule which is located in the Rules Section of this Federal Register.

Dated: February 9, 2012.
H. Curtis Spalding,
Regional Administrator, EPA New England.

[FR Doc. 2012-5763 Filed 3-12-12; 8:45 am]

BILLING CODE 6560-50-P